DEPARTMENT OF COMMERCE

Foreign-Trade Zones Board

[B-85-2013]

Foreign-Trade Zone (FTZ) 7—Mayaguez, Puerto Rico: Notification of Proposed Production Activity; Patheon Puerto Rico, Inc. (Pharmaceutical Products); Caguas and Manatí, Puerto Rico

The Puerto Rico Industrial Development Company, grantee of FTZ 7, submitted a notification of proposed production activity to the FTZ Board on behalf of Patheon Puerto Rico, Inc. (Patheon) (formerly MOVA Pharmaceutical Corporation), located in Caguas and Manatí, Puerto Rico. The notification conforming to the requirements of the regulations of the FTZ Board (15 CFR 400.22) was received on August 28, 2013.

Patheon already has authority to produce pharmaceutical products at both sites, located at Site 1—Parcel 2 within FTZ 7 in Caguas, and within Subzone 7L in Manatí, Puerto Rico. The current request would add a single input to Patheon's scope of authority (the associated final product is already in its scope). Pursuant to 15 CFR 400.14(b), additional FTZ authority would be limited to the specific foreign-status materials and components and specific finished products described in the submitted notification (as described below) and subsequently authorized by the FTZ Board.

Production under FTZ procedures could exempt Patheon from applicable customs duty payments on the foreign status input, polyvinylpirrolidone (Povidone) (duty rate, 5.3%) used in export production. On domestic sales, Patheon would be able to choose the duty rate during customs entry procedures that applies to MK-431A, a pharmaceutical product for the treatment of diabetes (duty free), for the polyvinylpirrolidone and for the inputs in the existing scope of authority. Customs duties could also be deferred or reduced on foreign status production equipment.

Public comment is invited from interested parties. Submissions shall be addressed to the Board's Executive Secretary at the address below. The closing period for their receipt is November 4, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: September 17, 2013.
Andrew McGilvray,
Executive Secretary.

[FR Doc. 2013-23072 Filed 9-20-13; 8:45 am]

BILLING CODE 3510-DS-P